DEPARTMENT OF AGRICULTURE

Natural Resources Conservation Service

Task Force on Agricultural Air Quality

AGENCY: Natural Resources Conservation Service, USDA.

ACTION: Notice of meeting.

SUMMARY: The Task Force on Agricultural Air Quality will meet to continue discussions on critical air quality issues relating to agriculture. Special emphasis will be placed on understanding the relationship between agricultural production and air quality. The meeting is open to the public.

EFFECTIVE DATES: The meeting will convene Wednesday, January 16, 2002, at 9 a.m., and continue until 4 p.m. The meeting will resume Thursday, January 17, 2002 from 9 a.m. to 4 p.m. Written material and requests to make oral presentations should reach the Natural Resources Conservation Service, at the address below, on or before January 7, 2002.

ADDRESSES: The meeting will be held at the Embassy Suite Hotel Phoenix-Scottsdale at the Stonecreek Golf Course, 4415 E. Paradise Village Parkway South, Phoenix, Arizona 85032; telephone: (602) 765-5800. Written material and requests to make oral presentations should be sent to Beth Sauerhaft, USDA-NRCS, PO Box 2890,Room 6158, Washington, DC 20013.

FOR FURTHER INFORMATION CONTACT: Questions or comments should be directed to Beth Sauerhaft, Designated Federal Official; telephone: (202) 720-8578; fax: (202) 720-2646; email: beth.sauerhaft@usda.gov.

SUPPLEMENTARY INFORMATION: Notice of this meeting is given under the Federal Advisory Committee Act, 5 U.S.C. App. 2. Additional information about the Task Force on Agricultural Air Quality, including any revised agendas for the January 16 and 17, 2002, meeting that occur after this Federal Register Notice is published, may be found on the World Wide Web at http://www.nhq.nrcs. usda.gov/faca/aaqtf.html.

Draft Agenda of the January 16 and 17 Meeting

A. Welcome to Phoenix, Arizona

1. Arizona State Official

B. Approve minutes of the Denver, Colorado, July 18-19, 2001, AAQTF meeting.

C. EPA Update

• National Academy of Sciences Scientific Assessment update

• Confined Animal Feeding Operation issues

• Status of residue burning issues

• Status of Agricultural Voluntary Compliance policy

D. Subcommittee Business

Research Priorities and Oversight Subcommittee

• Report on re-evaluation of research priorities

Emissions Factors Subcommittee

• Emission Factor Survey results

Concentrated Animal Feeding Operation Subcommittee

• Update on Action Plan

Voluntary/Incentive Based Program Subcommittee

Follow-up Subcommittee

Agricultural Burning Subcommittee

E. New Topics

• Farm Bill status

• Carbon credits trading

• Update on selected legal actions

F. Next Meeting, time/place

G. Public Input (time will be reserved before lunch and at the close of each daily session to receive public comment. Individual presentations will be limited to 5 minutes).

Procedural

This meeting is open to the public. At the discretion of the Chair, members of the public may present oral presentations during the meeting. Persons wishing to make oral presentations should notify Beth Sauerhaft no later than January 7, 2002. If a person submitting material would like a copy distributed to each member of the committee in advance of the meeting, that person should submit 25 copies to Beth Sauerhaft no later than January 7, 2002.

Information on Services for Individuals With Disabilities

For information on facilities or services for individuals with disabilities or to request special assistance at the meeting, contact Beth Sauerhaft.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

To file a complaint of discrimination to USDA, write to the Director, Office of Civil Rights, Room 326-W, Whitten Building, 1400 Independence Avenue, SW, Washington, D.C. 20250-9410, or call (202) 720-5964 (voice and TDD). The USDA is an equal opportunity provider and employer.

Signed at Washington, DC, on December 11, 2001.
Pearlie S. Reed,
Chief, Natural Resources Conservation Service.

[FR Doc. 01-31381 Filed 12-21-01; 8:45 am]

BILLING CODE 3410-16-P